ENVIRONMENTAL PROTECTION AGENCY

[EPA-HQ-OECA-2006-0931; FRL-8313-5]

Agency Information Collection Activities; Submission to OMB for Review and Approval; Comment Request; Performance Evaluation Studies on Water and Wastewater Laboratories (Renewal); EPA ICR No. 0234.09, OMB Control No. 2080-0021

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before June 11, 2007.

ADDRESSES: Submit your comments, referencing Docket ID No. EPA-HQ-OECA-2006-0931 to (1) EPA online using www.regulations.gov (our preferred method), by e-mail to docket.oeca@epa.gov, or by mail to: EPA Docket Center, Environmental Protection Agency, Enforcement and Compliance Docket and Information Center, Mail Code: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Patrick Yellin, Office of Compliance, Agriculture Division, Laboratory Data Integrity Branch, 2225A, Environmental Protection Agency, 1200 Pennsylvania Ave., NW., Washington, DC 20460; telephone number: 202-564-2970; fax number: 202-564-0029, e-mail address: yellin.patrick@epa.gov.

SUPPLEMENTARY INFORMATION: EPA has submitted the following ICR to OMB for review and approval according to the procedures prescribed in 5 CFR 1320.12. On January 3, 2007 (72 FR 130), EPA sought comments on this ICR pursuant to 5 CFR 1320.8(d). EPA published a second notice on January 22, 2007 (72 FR 2684), to make a correction to the first notice. EPA received 1 comment during the comment period, which is addressed in the ICR. Any additional comments on this ICR should be submitted to EPA and OMB within 30 days of this notice.

EPA has established a public docket for this ICR under Docket ID No. EPA-HQ-OECA-2006-0931, which is available for online viewing at www.regulations.gov, or in person viewing at the Enforcement and Compliance Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Enforcement and Compliance Docket is 202-566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Performance Evaluation Studies on Water and Wastewater Laboratories (Renewal).

ICR numbers: EPA ICR No. 0234.09, OMB Control No. 2080-0021.

ICR Status: This ICR is scheduled to expire on July 31, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR Part 9.

Abstract: Discharge Monitoring Report-Quality Assurance (DMR-QA) participation is mandatory for major and selected minor permit holders under the Clean Water Act's National Pollution Discharge Elimination System (NPDES), Section 308. The DMR-QA study is designed to evaluate the entire process used by permittees to routinely report monitoring results in Discharge Monitoring Reports (DMRs). The study addresses the analytic ability of the laboratories that perform chemical, microbiological and whole effluent toxicity (WET) analyses required in the NPDES permits and the ability to properly report these results in the DMRs. Under DMR-QA, the permit holder is responsible for obtaining un-graded results of analyses of test samples performed by in-house and/or contract laboratories, and submitting these results to the appropriate federal or state NPDES regulatory authority and the commercial proficiency testing (PT) provider that supplies the test samples. Permit holders are responsible for submitting corrective action reports to the appropriate regulatory authority.

Burden Statement: The annual public reporting and recordkeeping burden for this collection of information is estimated to average 6.3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Respondents in DMR-QA studies are NPDES permittees designated by the EPA region or state with permitting responsibility and the laboratories doing whole-effluent toxicity testing for these major dischargers. These respondents are most likely from the following SIC Codes: 2011—through 3999—Manufacturers; 4941—Water supply systems; 4952—Sewerage systems; 8734—Water testing laboratories.

Estimated Number of Respondents: 7516.

Frequency of Response: Once annually.

Estimated Total Annual Hour Burden: 47,351 hours.

Estimated Total Annual Cost: $2,494,260, includes $1,240,140 annualized O&M costs and $1,254,120 annual labor costs.

Changes in the Estimates: There is a decrease of 132,984 hours in the total estimated burden currently identified in the OMB Inventory of Approved ICR Burdens. This decrease is primarily due to the fact that this renewal ICR does not include burden associated with the Water Pollution and Water Supply studies that were covered under the previous ICR. Some of this decrease was offset by a slight increase in the number of respondents, burden hours and costs for the DMR-QA study

Dated: May 1, 2007.
Sara Hisel McCoy,
Acting Director, Collection Strategies Division.

[FR Doc. E7-9113 Filed 5-10-07; 8:45 am]

BILLING CODE 6560-50-P